DEPARTMENT OF ENERGY

Federal Energy Regulatory Commission

[Docket No. RP05-386-000]

Overthrust Pipeline Company; Notice of Proposed Changes in FERC Gas Tariff

June 24, 2005.

Take notice that on June 21, 2005, Overthrust Pipeline Company (Overthrust) tendered for filing as part of its FERC Gas Tariff, First Revised Volume No. 1-A, the following tariff sheets, to become effective July 22, 2005:

Fourteenth Revised Sheet No. 1

Seventeenth Revised Sheet No. 30

Fourth Revised Sheet No. 35

Ninth Revised Sheet No. 37

Fifth Revised Sheet No. 38

Seventh Revised Sheet No. 40

Sixth Revised Sheet No. 41

Eighth Revised Sheet No 43

Seventh Revised Sheet No. 44

Second Revised Sheet No. 57

Seventh Revised Sheet No. 60

Eighth Revised Sheet No. 67B

Second Revised Sheet No. 67K

Seventh Revised Sheet Nos. 68

69 Sixth Revised Sheet No. 77

Third Revised Sheet No. 78J

Fifth Revised Sheet No. 78K

Third Revised Sheet Nos. 100 through 106

Original Sheet No. 106A

Fourth Revised Sheet Nos. 107 and 108

Third Revised Sheet No. 109

Overthrust states it is proposing to clean-up and clarify specific aspects of its tariff language. In addition, Overthrust indicates that it is proposing to modify the “failure to pay” provision, 17.6, to be consistent with the tariff provisions of other pipelines operated by Questar Pipeline Company.

Overthrust states that copies of the filing have been served upon Overthrust's customers and the public service commissions of Utah and Wyoming.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-3451 Filed 6-30-05; 8:45 am]

BILLING CODE 6717-01-P